DEPARTMENT OF ENERGY

Federal Energy Regulatory Commission

18 CFR Part 2

[Docket No. RM11-30-000; Order No. 756]

Technical Corrections to Commission Regulations

Issued February 8, 2012.

AGENCY: Federal Energy Regulatory Commission, DOE.

ACTION: Final rule: correcting amendment.

SUMMARY: This document adds sections that were inadvertently removed from the Final Rule that the Federal Energy Regulatory Commission published in the Federal Register on February 1, 2012. The Final Rule revised a number of references in Commission regulations that had become outdated for various reasons or contain typographical errors. The changes contained in this amendment add or delete language in current Commission regulations by eliminating obsolete information and correcting clerical mistakes. The revisions are intended to be ministerial and/or informational in nature.

DATES: Effective date: February 14, 2012.

FOR FURTHER INFORMATION CONTACT: Kenneth Yu, Office of the General Counsel, Federal Energy Regulatory Commission, 888 First Street NE., Washington, DC 20426, (202) 502-8482.

SUPPLEMENTARY INFORMATION: This document corrects a document published in the Federal Register on February 1, 2012 (77 FR 4891), in which sections that were inadvertently removed.

List of Subjects in 18 CFR Part 2

Administrative practice and procedure, Electric power, Natural gas, Pipelines, Reporting and recordkeeping requirements.

Therefore, 18 CFR part 2 is amended by the following correcting amendments:

PART 2—GENERAL POLICY AND INTERPRETATIONS

1. The authority citation for part 2 continues to read as follows:

Authority: 5 U.S.C. 601; 15 U.S.C. 717-717z, 3301-3432; 16 U.S.C. 792-828c, 2601-2645; 42 U.S.C. 4321-4370h, 7101-7352.

§ 2.13 [Removed]

2. Remove the first paragraph (b) in § 2.13 including the footnote.

§ 2.55 [Corrected]

3. In § 2.55(a)(2)(iii), revise the phrase “On and at the same time as” to read “On, or at the same time as,”.

Kimberly D. Bose,
Secretary.

[FR Doc. 2012-3317 Filed 2-13-12; 8:45 am]

BILLING CODE 6717-01-P